DEPARTMENT OF THE INTERIOR

Bureau of Indian Affairs

Notice of Intent To Take Land in Trust for the Little Traverse Bay Band of Odawa Indians

AGENCY: Bureau of Indian Affairs, Interior.

ACTION: Notice.

SUMMARY: The Assistant Secretary—Indian Affairs, United States Department of the Interior, made a final agency determination on August 21, 2000, that the United States will accept the South ½ of the NE ¼ of Section 2, Township 37 North, Range 5 West, containing 80 acres, and the East ½ of the NW ¼ Section 36, Township 36 North, Range 6 West, containing 80 acres, Michigan Meridian, Emmet County, Michigan, in the name of the United States for the benefit of the Little Traverse Bay Bands of Odawa Indians. Notices sent to all political entities on August 21, 2000, contained a typographical error in the number of acres contained in each tract. The notice should have said 80 acres per tract instead of 40 acres. The Little Traverse Bay Bands of Odawa Indians is organized pursuant to the Indian Reorganization Act of 1934, as amended, and it has been determined that this trust acquisition is mandated for the Little Traverse Bay Bands of Odawa Indians pursuant to 25 U.S.C. 1300k-4(a). The United States shall acquire title no sooner than 30 days after this notice is published. This notice is published in accordance with 25 CFR 151.12(b) which was published on April 24, 1996 (61 FR 18082).

FOR FURTHER INFORMATION CONTACT: Larry Scrivner, Deputy Director, Office of Trust Responsibilities, Bureau of Indian Affairs, Washington, DC 20240; 202-208-5831.

Dated: October 13, 2000.
Kevin Gover,
Assistant Secretary—Indian Affairs.

[FR Doc. 00-27062 Filed 10-19-00; 8:45 am]

BILLING CODE 4310-02-P